DEPARTMENT OF TRANSPORTATION

Surface Transportation Board

[STB Finance Docket No. 34189]

Richmond Pacific Railroad Corporation—Lease, Operating and Trackage Rights Exemption—Rail Lines of Union Pacific Railroad Company and The Burlington Northern and Santa Fe Railway Company

Richmond Pacific Railroad Corporation (applicant), a Class III rail carrier, has filed a notice of exemption under 49 CFR 1150.41 to lease and operate (including some operations by trackage rights) over 10 miles of rail lines owned by Union Pacific Railroad Company (UP) and The Burlington Northern and Santa Fe Railway Company (BNSF) in Contra Costa County, CA.

The transaction could have been consummated on or after April 9, 2002, the effective date of the exemption (7 days after the exemption was filed).¹

¹ Applicant proposed to consummate the transaction on or about April 8, 2002. The exemption notice was filed on April 2, 2002. Under 49 CFR 1150.42, the exemption is effective 7 days after the notice is filed.

The purpose of the transaction ² is to allow: (1) Applicant to lease from UP, for freight rail operations, trackage on the Seaver Industrial Lead, from milepost 0.20 near the Stege Wye to the end of the track at milepost 2.46 (2.26 miles), and on the Richmond Industrial Lead, from milepost 0.00 near the San Pablo Wye to milepost 1.01, including all industry tracks, the San Pablo Wye, and San Pablo house track (1.5 miles); (2) UP and applicant to interchange freight cars, locomotives, cabooses and other equipment adjacent to the UP main line at the Stege Wye on interchange trackage from milepost 7.5 to milepost 10.7 (3.2 miles); (3) UP to permit applicant to operate freight rail service on subsidiary trackage adjacent to the UP main line from milepost 10.7 near the Stege Wye to milepost 13.74 near the San Pablo Wye (3.04 miles); (4) UP and applicant to agree upon rail car switching or interchange charges for various types of freight cargo shipments originated or terminated by UP or applicant; (5) UP to assign its rights under certain agreements related to the leased premises to applicant and to allow applicant to assume the obligations of UP under such agreements; and (6) BNSF and applicant to interchange equipment at the 23rd Street yard and to deliver equipment to locations along the Seaver Industrial Lead using joint track leased to applicant by BNSF and UP, operating rights on BNSF-owned track, and on track leased by BNSF to applicant.

² Applicant states that the transaction involves several agreements between UP and applicant which include a lease agreement, an interchange agreement, an operating agreement, a commercial marketing agreement and an assignment and assumption agreement. It also involves a non-exclusive lease agreement between BNSF and applicant.

The notice is filed under 49 CFR 1150.41. If the notice contains false or misleading information, the exemption is void ab initio. Petitions to revoke the exemption under 49 U.S.C. 10502(d) may be filed at any time. The filing of a petition to revoke will not automatically stay the transaction.

An original and 10 copies of all pleadings, referring to STB Finance Docket No. 34189, must be filed with the Surface Transportation Board, Case Control Unit, 1925 K Street, NW., Washington, DC 20423-0001. In addition, a copy of each pleading must be served on Ronald C. Peterson, Esq., Hanson, Bridgett, Marcus, Vlahos & Rudy, LLP, 333 Market Street, Suite 2300, San Francisco, CA 94105-2173.

Board decisions and notices are available on our Web site at www.stb.dot.gov.”

Decided: April 18, 2002.
By the Board, David M. Konschnik, Director, Office of Proceedings.
Vernon A. Williams,
Secretary.

[FR Doc. 02-10029 Filed 4-25-02; 8:45 am]

BILLING CODE 4915-00-P